ENVIRONMENTAL PROTECTION AGENCY

[FRL-7578-8]

Science Advisory Board Staff Office; Environmental Economics Advisory Committee of the Science Advisory Board, Panel on the Environmental Economics Research Strategy; Notification of a Public Advisory Committee Meeting

AGENCY: Environmental Protection Agency (EPA).

ACTION: Notice.

SUMMARY: The Environmental Protection Agency, Science Advisory Board Staff Office is announcing a public meeting of the Science Advisory Board's (SAB's) Environmental Economics Advisory Committee (EEAC). The EEAC will convene as the Panel on the Environmental Economics Research Strategy to review the EPA's draft Environmental Economics Research Strategy.

DATES: The meeting will take place on Friday, November 14, 2003 from 8:30 a.m. until approximately 4 p.m. Eastern Time.

ADDRESSES: The meeting will be held at the Hilton Arlington & Towers, 950 N. Stafford St., Arlington, VA 22203, phone (877) 233-9330.

FOR FURTHER INFORMATION CONTACT: Any member of the public wishing further information regarding this meeting may contact Mr. Thomas O. Miller, Designated Federal Officer (DFO), via telephone/voice mail at (202) 564-4558; mail at U.S. EPA SAB (1400A), 1200 Pennsylvania Ave., NW., Room 6450, Washington, DC, 20460, or via e-mail at miller.tom@epa.gov. General information about the SAB can be found in the SAB Web site at http://www.epa.gov/sab.

SUPPLEMENTARY INFORMATION: Summary: The U.S. Environmental Protection Agency Science Advisory Board Staff Office is providing this notification of an upcoming meeting of the Science Advisory Board's Panel on the Environmental Economics Research Strategy to receive briefings on and to conduct deliberations on the EPA draft “Environmental Economic Research Strategy.”

The SAB was established by 42 U.S.C. 4365 to provide independent scientific and technical advice, consultation, and recommendations to the EPA Administrator on the technical basis for Agency positions and regulations. This committee of the SAB will comply with the provisions of the Federal Advisory Committee Act ( FACA) and all appropriate SAB procedural policies.

Background: The EPA Science Advisory Board was asked by the National Center for Environmental Economics (NCEE) and the Office of Research and Development's National Center for Environmental Research (ORD/NCER) to review the EPA Environmental Economics Research Strategy. Background information on the review, and information on the process used to identify and consider consultants to supplement the EPA SAB Environmental Economics Advisory Committee in its conduct of this review are included in a Federal Register notice published on June 23, 2003 (68 FR 37151).

Availability of Meeting Materials: A copy of the draft agenda for the meeting that is the subject of this notice will be posted on the SAB Web site at (http://www.epa.gov/sab/panels/eeaceersapanel.html) approximately 10 days before the meeting. Other materials that may be made available for this meeting may also be posted on the SAB Web site in this time-frame.

Procedures for Providing Public Comments: It is the policy of the EPA Science Advisory Board (SAB) to accept written public comments of any length, and to accommodate oral public comments whenever possible. The EPA SAB expects that public statements presented at the PEERS panel meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) in writing (email, fax or mail—see contact information above) by close of business, November 7, 2003 in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the panel for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Access: Individuals requiring special accommodation to access this meeting, should contact Mr. Miller at least five business days prior to the meeting so that appropriate arrangements can be made.

Dated: October 20, 2003.
Vanessa T. Vu,
Director, EPA Science Advisory Board Staff Office.

[FR Doc. 03-27031 Filed 10-24-03; 8:45 am]

BILLING CODE 6560-50-P